DEPARTMENT OF THE INTERIOR

National Park Service

[NPS-WASO-VRP-WS—NPS0036398 ; PPWOWMADL3, PPMPSAS1Y.TD0000 (222); OMB Control Number 1024-0022]

Agency Information Collection Activities; Backcountry/Wilderness Use Permit

AGENCY: National Park Service, Interior.

ACTION: Notice of information collection; request for comment.

SUMMARY: In accordance with the Paperwork Reduction Act of 1995 we, the National Park Service (NPS) are proposing to renew an information collection with revisions.

DATES: Interested persons are invited to submit comments on or before October 16, 2023.

ADDRESSES: Written comments and suggestions on the information collection requirements should be submitted by the date specified above in DATES to https://www.reginfo.gov/public/do/PRAMain. Find this particular information collection by selecting “Currently under Review—Open for Public Comments” or by using the search function. Please provide a copy of your comments to Phadrea Ponds, NPS Information Collection Clearance Officer (ADIR-ICCO), 13461 Sunrise Valley Drive (MS-244) Reston, VA 20192 (mail); or phadrea_ponds@nps.gov (email). Please include 1024-0022 in the subject line of your comments.

FOR FURTHER INFORMATION CONTACT: To request additional information about this Information Collection Request (ICR), contact Roger Semler, Chief, Wilderness Stewardship Division at roger_semler@nps.gov (email) or 202-430-7615 (Phone). Please reference OMB Control Number 1024-0022 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at https://www.reginfo.gov/public/do/PRAMain.

SUPPLEMENTARY INFORMATION: In accordance with the Paperwork Reduction Act of 1995 (PRA, 44 U.S.C. 3501et seq.) and 5 CFR 1320.8(d)(1), we provide the public and other Federal agencies with an opportunity to comment on new, proposed, revised, and continuing collections of information. This helps us assess the impact of our information collection requirements and minimize the public's reporting burden. It also helps the public understand our information collection requirements and provide the requested data in the desired format.

A FederalRegister notice with a 60-day public comment period soliciting comments on this collection of information was published on (87 FR 73776) on December 1, 2022. We received the following comments in response to that Notice:

Comment #1: Email From John Ryter on 12/1/2022

I'd like to comment on the proposal to require permits for climbing in national parks. It's hard to determine whether this proposal means climbers would be required to get permits in advance, and whether there would be limits on the number of permits available for a given day. If there is a limit on how many are available on a given day, I am concerned that the addition of permits would cause fewer climbers to abandon or reschedule their climbs due to weather, and we would see an increase in injuries, rescues, and fatalities occurring in national parks. This could be mitigated by reducing the time in advance that permits could be acquired (e.g., cannot get permits more than 4 days in advance), but that presents its own challenges.

There are already cases where a permit is a de facto requirement for doing a climb, such as those where backcountry camping is necessary for most non-professional climbers. In my experience, this hasn't been an issue (there have been enough sites available that it was possible to get a site the day of), but since so many climbs require early starts (6 a.m. or earlier), day-of permits would be pretty challenging to do. It would also be good to link those sorts of campsites, like the lower saddle of the Grand Teton, with the climbing permits in some way so people don't end up with one and not the other.

If it's simply a sign-in sheet at the trailhead, that seems very reasonable and I have no concerns. My only other question is what the cutoff grade for climbing would be—all off-trail travel, class 3 or 4 or higher, or roped vs un-roped? Either way, being able to do the permit at the trailhead or online would be a great idea.

NPS Response/Action Taken

During the 60-day Federal Register comment period, the National Park Service proposed creating a new Form 10-404C that intends to renew the current Backcountry/Wilderness related to permitting fixed anchors in the wilderness. After review and consultation, the NPS will not add the new form to the collection.

Comment #2: Email From the Alaska State ANILCA Program Coordinator on 1/26/2023

A three-page letter (attached in ROCIS) submitted in PDF format was submitted expressing the State of Alaska's viewpoints regarding a proposed new form 10-404C—Application to install fixed anchors in the wilderness.

NPS Response/Action Taken

During the 60-day Federal Register comment period, the National Park Service proposed creating a new Form 10-404C. After review and consultation, the NPS will not add the new form to the collection.

Comment #3: Email From Access Fund Vice President of Policy and Government Affairs on 1/27/2023

A four-page letter (attached) was submitted expressing viewpoints and concerns regarding creating an application form regarding a proposed new form 10-404C—Application to install fixed anchors in the wilderness installation of fixed anchors in the wilderness.

NPS Response/Action Taken

During the 60-day Federal Register comment period, the National Park Service proposed creating a new Form 10-404C. After review and consultation, the NPS will not add the new form to the collection.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Backcountry/Wilderness Use Permit is an extension of the NPS statutory authority and responsibility to protect the park areas it administers and to manage the public use thereof (54 U.S.C. 100101, 100751, and 320102). In 1976, the NPS initiated a backcountry registration system by the regulations codified in 36 CFR 1.5, 1.6, and 2.10. The NPS regulations codified in 36 CFR parts 1 through 7, 12, and 13 are designated to implement statutory mandates that provide for resource protection and public enjoyment. The registration system aims to provide users access to backcountry and wilderness areas of national parks while enhancing the protection of natural and cultural resources by using better management practices by the park management. Data collected through the registration process serves as an important resource that informs backcountry/wilderness management and stewardship planning, decision-making, and operations, and provides a means of disseminating public safety and outdoor ethics messages regarding backcountry/wilderness travel and camping along with continuing opportunities for primitive and unconfined recreation. Permitting enhances the ability of the NPS to educate users on potential hazards, search and rescue efforts, and resource protection. The objectives of the permit system carried out by park managers are to ensure:

(1) Requests by backcountry users are evaluated by park managers per applicable statutes and NPS regulations.

(2) The use of consistent standards and permitting criteria throughout the agency.

(3) To the extent possible, the use of a single and efficient permitting document, NPS Forms 10-404 Backcountry/Wilderness Use Permit Application and 10-404A Backcountry/Wilderness Use Permit Hangtag are used to provide access to NPS backcountry areas, including areas that require a reservation to enter where use limits are imposed per other NPS regulations. The 10-404AK Alaska Backcountry/Wilderness Use Permit Application, is used within Alaskan park units, Denali National Park and Preserve and Glacier Bay National Park and Preserve, due to unique, park-specific requirements like the additional permitted methods of travel as regulated by ANILCA Section 1110(a).

We've decided to not add the previously proposed (in the 60-day FRN publication) new form 10-404C Backcountry/Wilderness Use Permit Application for Climbing to this collection, upon consideration of the comments received during the 60-day comment period.

Title of Collection: Backcountry/Wilderness Use Permit, 36 CFR 1.5, 1.6, and 2.10.

OMB Control Number: 1024-0022.

Form Number: NPS Forms 10-404 Backcountry/Wilderness Use Permit Application, 10-404A Backcountry/Wilderness Use Permit Hangtag, 10-404AK Alaska Backcountry/Wilderness Use Permit Application.

Type of Review: Renewal of a currently approved collection.

Respondents/Affected Public: Individuals, private sector, and state, local, or tribal government entities applying to use backcountry and wilderness areas within units of the national park system.

Total Estimated Number of Annual Responses: 473,872.

Estimated Completion Time per Response: Varies from 5 minutes to 8 minutes depending on the activity.

Total Estimated Number of Annual Burden Hours: 51,337.

Respondent's Obligation: Required to obtain or retain a benefit.

Frequency of Collection: On occasion.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2023-19979 Filed 9-14-23; 8:45 am]

BILLING CODE 4312-52-P